DEPARTMENT OF LABOR

Employment and Training Administration

[TA-W-64,886]

Trane Residential Systems, Ft. Smith, AR; Notice of Termination of Investigation

Pursuant to Section 221 of the Trade Act of 1974, as amended, an investigation was initiated on January 14, 2009, in response to a worker petition filed by the State of Arkansas on behalf of workers at Trane Residential Systems, Ft. Smith, Arkansas.

The petitioner has requested that the petition be withdrawn. Consequently, the investigation has been terminated.

Signed at Washington, DC this 10th day of March 2009.
Elliott S. Kushner,
Certifying Officer, Division of Trade Adjustment Assistance.

[FR Doc. E9-5902 Filed 3-18-09; 8:45 am]

BILLING CODE 4510-FN-P